DEPARTMENT OF HOMELAND SECURITY

[Docket No. DHS-2015-0017]

Notice of Workshop Meeting Regarding Information Sharing and Analysis Organizations

AGENCY: Office of Cybersecurity and Communications, National Protection and Programs Directorate, Department of Homeland Security.

ACTION: Notice of meeting.

SUMMARY: This notice announces a public workshop on June 9, 2015 to discuss Information Sharing and Analysis Organizations, Automated Indicator Sharing, and Analysis, as related to E.O. 13691, “Promoting Private Sector Cybersecurity Information Sharing” of February 13, 2015.

DATES: The workshop will be held on June 9, 2015, from 8:00 a.m. to 5:00 p.m. The meeting may conclude before the allotted time if all matters for discussion have been addressed.

ADDRESSES: The meeting location is the Cambridge Massachusetts Volpe Center—55 Broadway, Cambridge, MA 02142. See Supplementary Information section for the address to submit written or electronic comments.

FOR FURTHER INFORMATION CONTACT: If you have questions concerning the meeting, please contact ISAO@hq.dhs.gov or Michael A. Echols, Director, JPMO, Department of Homeland Security, michael.echols@dhs.gov.

SUPPLEMENTARY INFORMATION:

Background and Purpose

On February 13, 2015, President Obama signed E.O. 13691 intended to enable and facilitate “private companies, nonprofit organizations, and executive departments and agencies . . . to share information related to cybersecurity risks and incidents and collaborate to respond in as close to real time as possible.” The order addresses two concerns the private sector has raised:

• How can companies share information if they do not fit neatly into the sector-based structure of the existing Information Sharing and Analysis Centers (ISACs)?

• If a group of companies wants to start an information sharing organization, what model should they follow? What are the best practices for such an organization?

ISAOs may allow organizations to robustly participate in DHS information sharing programs even if they do not fit into an existing critical infrastructure sector, seek to collaborate with other companies in different ways (regionally, for example), or lack sufficient resources to share directly with the government. ISAOs may participate in existing DHS cybersecurity information sharing programs and contribute to near-real-time sharing of cyber threat indicators.

Information on Service for Individuals With Disabilities

For information on facilities or services for individuals with disabilities or to request special assistance at the public meeting, contact ISAO@hq.dhs.gov and write “Special Assistance” in the subject box or contact the meeting coordinator the FOR FURTHER INFORMATION CONTACT section of this notice.

Meeting Details

Members of the public may attend this workshop by RSVP only up to the seating capacity of the room. DHS will audio record the Workshop Panels that take place in the VOLPE Center Auditorium and make the audio recording publicly available on the ISAO Web page DHS.gov/ISAO. Each individual will be scanned, and valid government-issued photo identification (for example, a driver's license) will be required for entrance to the building and meeting space. To facilitate the building security process, and to request reasonable accommodation, those who plan to attend should RSVP through the link provided on the ISAO Web page DHS.gov/ISAO no later than 14 days prior to the meeting. Requests made after May 26, 2015 might not be able to be accommodated.

We encourage you to participate in this meeting by submitting comments to the ISAO inbox ISAO@hq.dhs.gov, commenting orally, or submitting written comments to the DHS personnel attending the meeting who are identified to receive them.

Submitting Other Written Comments

You may also submit written comments to the docket before or after the meeting using any one of the following methods:

(1) Federal eRulemaking Portal: http://www.regulations.gov. Although comments are being submitted to the Federal eRulemaking Portal, this is a tool to provide transparency to the general public, not because this is a rulemaking action.

(2) Email: ISAO@hq.dhs.gov. Include the docket number in the subject line of the message.

(3) Fax: 703-235-4981, Attn: Michael A. Echols.

(4) Mail: Michael A. Echols, Director, JPMO—ISAO Coordinator, NPPD, Department of Homeland Security, 245 Murray Lane, Mail Stop 0615, Arlington VA 20598-0615.

To avoid duplication, please use only one of these four methods. All comments and related material submitted after the meeting must either be submitted to the online docket on or before July 8, 2015, or reach the Docket Management Facility by that date.

Authority: 6 U.S.C. 131-134; 6 CFR. 29; E.O. 13691.

Dated: May 1, 2015.
Andy Ozment,
Assistant Secretary, Cybersecurity and Communications, National Protection and Programs Directorate, Department of Homeland Security.

[FR Doc. 2015-10683 Filed 5-6-15; 8:45 am]

BILLING CODE 9110-9P-P